DEPARTMENT OF THE INTERIOR

Minerals Management Service

Outer Continental Shelf (OCS) Operations; Annual List of Notices to Lessees and Operators (NTLs)

AGENCY: Minerals Management Service (MMS), Interior.

ACTION: Notice.

SUMMARY: This notice informs the public, industry, and other Government agencies of NTLs that are in effect as of January 15, 2001. It also officially rescinds several regional NTLs and one regional Letter to Lessees and Operators (LTL).

ADDRESSES: You may obtain copies of NTLs through our website at http://www.mms.gov/ntls/ or by contacting the MMS National Office or the OCS Region that issued the NTL at the following addresses:

National Office: Minerals Management Service, Engineering and Operations Division, 381 Elden Street, Herndon, Virginia 20170-4817, Attention: Ms. Alexis London; telephone (703) 787-1600.

Alaska OCS Region: Minerals Management Service, 949 East 36th Avenue, Room 308, Anchorage, Alaska 99508-4363, Attention: Ms. Christine Huffaker; telephone (907) 271-6621.

Gulf of Mexico (GOM) OCS Region: Minerals Management Service, 1201 Elmwood Park Blvd., New Orleans, Louisiana 70123-2394, Attention: Mr. Michael Dorner; telephone (504) 736-2599.

Pacific OCS Region: Minerals Management Service, 770 Paseo Camarillo, Camarillo, California 93010-6064, Attention: Ms. Freddie Mason; telephone (805) 389-7566.

FOR FURTHER INFORMATION CONTACT: Alexis London, Engineering and Operations Division; telephone (703) 787-1600.

SUPPLEMENTARY INFORMATION: The MMS is responsible for oil and gas or sulphur operations in the OCS to ensure operational safety and protection of the environment. In addition to our regulations, under the authority of 30 CFR 250.103, we issue NTLs to provide guidance and to further clarify, interpret, or describe regulatory requirements on a national or regional basis.

In the past, we have also issued LTLs for this purpose or to communicate information to OCS lessees and operators. Recently we have rescinded or revised most of the LTLs and reissued them as NTLs. There are still a few active LTLs in the GOM OCS Region that have not yet been superseded by NTLs or rescinded. Although not listed in this Notice, please note that they will remain in effect until they are superseded or rescinded. To obtain a list or copies of the active LTLs, please contact the GOM OCS Region.

For your convenience, the following table lists the current active NTLs issued by the National Office and the OCS Regions. Therefore, if an NTL issued before January 15, 2001, is not listed, it is canceled and no longer in effect.

NTL No. | Effective date | Title/subject
Current Notices to Lessees and Operators Issued by the National Office
96-7N* | 12/10/96 | OCS Civil Penalties Program (*Modified by 97-5N).
97-2N* | 08/01/97 | Well Naming and Numbering Standards (*Will be superseded 5/01/2001 by NTL 00-N07).
97-3N | 08/01/97 | OCS Program—Annual Performance Review.
97-4N | 09/01/97 | Civil Penalties Program Annual Summary to be Published.
97-5N* | 10/07/97 | OCS Civil Penalties Program Revised Assessment Matrix (*Modifies 96-7N).
98-1N | 01/02/98 | Interim Guidance for Applying Platform Design Criteria from American Petroleum Institute (API) Recommended Practice (RP) 2A, “Planning, Designing, and Constructing Fixed Offshore Platforms,” 19th Edition (8/1/91) and 20th Edition (7/1/93) and its Supplement 1 (2/1/97).
98-4N | 03/04/98 | Interim Guidance for Applying “Simplified Fatigue Analysis” Procedure from API RP 2A.
98-5N | 04/01/98 | Application and Audit Fees for Requests for Royalty Relief or Adjustment Under 30 CFR Part 203.
98-12N | 07/01/98 | Determination of Pollution Inspection Frequencies for Unmanned Facilities.
98-13N | 07/01/98 | Use of New or Alternative Technology and Procedures.
98-18N | 12/28/98 | Supplemental Bond Procedures.
98-18N Addendum 1 | 09/12/00 | Additional Guidance for Third-Party Guarantees.
99-N01 | 01/06/99 | Guidelines for Oil Spill Financial Responsibility for Covered Facilities.
99-N03 | 03/01/99 | Performance Measures for OCS Operators & Form MMS-131.
99-N04 | 03/05/99 | Revised Guidelines for Royalty Relief Under 30 CFR Part 203.
00-N03* | 10/13/00 | Clarification of 30 CFR 250, Subpart O—Well Control & Production Safety Training (*Rescission Date 10/15/2002).
00-N04* | 09/15/01 | Guidelines for Crane & Rigging Operations on Fixed Offshore OCS Facilities (*Rescission Date 04/01/2001).
00-N05 | 10/01/00 | Conservation Information.
00-N06 | 10/01/00 | Deepwater Operations Plans.
00-N07 | 05/01/01 | Well Naming and Numbering Standards.
00-N08* | 12/21/00 | Synthetic Moorings Workshop (*Rescission Date 01/30/2001).
Current Notices to Lessees and Operators Issued by the Alaska OCS Region
00-A01 | 01/27/00 | Shallow Hazards Geophysical Survey & Evaluation for OCS Exploration and Development Drilling.
00-A02 | 01/27/00 | Shallow Hazards Geophysical Survey & Evaluation for OCS Pipeline Routes and Rights-of-Way.
00-A03 | 01/27/00 | Archaeological Survey & Evaluation for OCS Exploration and Development Activities.
Current Notices to Lessees and Operators Issued by the Gulf of Mexico OCS Region
96-08 | 11/25/96 | Time Allowed for the Correction of Incidents of Noncompliance (INC's) and for the Return of Notification of INC Forms.
96-10 | 12/05/96 | Air Emissions Information for Application for Accessory Platforms to Pipeline Rights-of-Way.
97-06 | 03/01/97 | Timely Submittal of Drilling Well Records in Accordance with 30 CFR 250.66 [Redesignated 30 CFR 250.416].
97-07 | 03/01/97 | Revised Conditions of Approval to Drill, Sidetrack and/or Complete for Oil and Gas Production.
97-16 | 08/01/97 | Production Within 500 Feet of a Unit or Lease Line.
97-17 | 08/01/97 | Containment Requirements for Bolted or Welded Stock Tanks.
97-18 | 08/18/97 | Timely Submittal of Deepwater Royalty Relief Applications.
98-05 | 07/01/98 | Confirmation of Deepwater Royalty Relief for Leases Issued After November 28, 1995.
98-06 | 08/10/98 | Archaeological Requirements.
98-09 | 08/10/98 | Proposed and As-Built Pipeline Location Data.
98-10 | 08/10/98 | Best Available Control Technology (Sulphur Dioxide).
98-12 | 08/10/98 | Implementation of Consistent Biological Stipulation Measures in the Central and Western Gulf of Mexico.
98-13 | 08/10/98 | Minimizing Oil and Gas Structures in the Gulf of Mexico.
98-16 | 08/10/98 | Hydrogen Sulfide (H2S) Requirements.
98-18 | 09/01/98 | Change of Address for the Submittal of Certain Drilling Records in Accordance with 30 CFR 250.416.
98-19 | 09/15/98 | Temporary Abandonment of Wells and Maintenance, Protection and Removal of Underwater Casing Stubs.
98-20 | 09/15/98 | Shallow Hazards Requirements.
98-23 | 10/15/98 | Interim Reporting Requirements for 30 CFR 250, Subpart K, Oil and Gas Production Rates.
98-24 | 10/15/98 | Rate Control Section Address, Office Hours, and Telephone Procedures.
98-26 | 11/30/98 | Minimum Interim Requirements for Site Clearance (and Verification) of Abandoned Oil and Gas Structures in the Gulf of Mexico.
98-27 | 12/01/98 | Guidelines for Eliminating Trash and Debris Resulting from Gulf of Mexico OCS Operations.
98-29 | 12/18/98 | Announcement of Project to Clean Up Historical Well Data.
98-29 Addendum 1 | 03/15/99 | Well Records for Information Corrected or Completed During Project to Clean Up Historical Well Data Exemption from Incidents of Non-compliance.
98-29 Addendum 2 | 02/16/00 | Wells (holes-in-ground) Without Assigned MMS API Numbers.
98-30 | 03/01/99 | Regional Oil Spill Response Plans.
99-G01 | 02/12/99 | Deepwater Emergency Well Control Operations.
99-G05 | 04/26/99 | Submittal of Documents for Platforms and Structures.
99-G06 | 05/01/99 | Economic Assumptions for RSVP Deepwater Royalty Relief Model.
99-G07 | 05/03/99 | U.S. Air Force Communication Towers.
99-G08 | 05/10/99 | Removing Underwater Casing Stubs.
99-G09 | 05/10/99 | Location of Choke and Kill Lines on BOP Stacks.
99-G10 | 05/11/99 | Designated Safe Welding and Burning Areas on Rigs.
99-G11 | 06/07/99 | Approval of Acidizing Operations.
99-G12 | 06/07/99 | Increased Level II Underwater Structural Inspection Intervals.
99-G15* | 06/30/99 | Production Activities Information Collection and Reporting (Western Gulf of Mexico) (*Rescission Date 1/31/2001).
99-G16 | 07/08/99 | Live-Bottom Surveys and Reports.
99-G17 | 07/08/99 | North American Datum 83 Implementation Plan for the GOM.
99-G19 | 09/07/99 | Downhole Commingling Policies.
99-G20 | 09/07/99 | Downhole Commingling Applications.
99-G21 | 09/13/99 | Platform Removal Applications.
99-G22 | 09/24/99 | Guidelines for Subsea Disposal & Offshore Storage of Solid Wastes.
00-G02 | 01/25/00 | Deepwater Experimental Oil Release Study.
00-G03 | 01/28/00 | Functional Responsibilities of MMS Regulations.
00-G04 | 01/28/00 | Well Producibility Determinations.
00-G06 | 02/04/00 | Supervisory Control and Data Acquisition (SCADA) Systems.
00-G07 | 02/22/00 | Accidental Disconnect of Marine Drilling Risers.
00-G08* | 03/01/00 | Drilling Windows, Eastern Gulf of Mexico (*Expires 3/1/2001).
00-G11 | 05/12/00 | Pollution Inspection Intervals for Unmanned Facilities.
00-G13 | 05/25/00 | Production Safety Systems Requirements.
00-G14 | 08/29/00 | Contact with District Offices and the Pipeline section Outside Regular Work Hours.
00-G15 | 09/06/00 | Hurricane and Tropical Storm Evacuation and Production Curtailment Procedures.
00-G16 | 09/07/00 | Guidelines for General Lease Surety Bonds.
00-G17 | 09/01/00 | Suspension of Production/Operations Overview.
00-G18* | 11/21/00 | Meteorological Data Collection and Reporting (Breton National Wildlife Refuge/Wilderness Area) (*Rescission Date 11/30/2001).
00-G19 | 11/21/00 | Production Activities Information Collection and Reporting (Breton National Wildlife Refuge/Wilderness Area) (*Rescission Date 11/30/2001).
00-G20 | 12/06/00 | Deepwater Chemosynthetic Communities.
00-G21 | 12/26/00 | Information Requirements for Exploration Plans and Development Operations Coordination Documents.
00-G22 | 12/22/00 | Subsalt Lease Term Extension.
Current Notices to Lessees and Operators Issued by the Pacific OCS Region
92-01 | 03/24/92 | Warning Signs: Pipelines and Power Cables.
98-01 | 03/05/98 | Santa Maria District Office Phone Call Procedures and Hours.
98-02 | 03/05/98 | Camarillo District Office Phone Call Procedures and Hours.
98-04 | 07/01/98 | Gas Volume Statement Requirements.
98-05 | 08/04/98 | Archaeological Survey and Report Requirements.
98-06 | 08/04/98 | Change of Ownership/Operatorship of Leases and Pipelines.
98-07 | 08/04/98 | Helideck Closures.
98-09 | 08/11/98 | Hydrogen Sulfide (H2S) Requirements.
98-10 | 08/21/98 | Liquid Royalty Measurement Facilities.
98-11 | 08/31/98 | Submission of Digitized Well Log Data on Magnetic Tape.
98-12 | 08/11/98 | Guidelines for Shallow Hazards and Report Requirements for Exploration Drilling.
98-13 | 08/11/98 | Guidelines for Shallow Hazards and Report Requirements for OCS Development Operations.
98-14 | 11/04/98 | Cooperative Drilling Rig (Only Non-Producing Lease Operators).
99-P01 | 07/15/99 | Oil Spill Response Plans.
99-P04 | 11/04/99 | Flaring and Venting Gas.
99-P05 | 12/10/99 | Decommissioning of Pacific OCS Facilities.
00-P01 | 01/20/00 | Standby Testing During Air Pollution Emergency Episodes.
00-P02 | 04/17/00 | Sustained Casing Pressure.
00-P04 | 11/01/00 | Biological Survey Criteria.

Effective with the publication of this Notice, we are rescinding the following National NTL, two NTLs issued by the GOM OCS Region, and one LTL issued by the Pacific OCS Region:

• NTL 98-2N, Guidance Regarding API Specification 14A, “Specification for Subsurface Safety Valve Equipment,” Ninth Edition (7/1/94) and Supplement 1. This NTL is superseded by the final rule published December 8, 2000 (65 FR 76933).

• NTL 86-05, New Form for Designated Operators. This NTL has served its purpose and is no longer needed. The form MMS-1123 used to designate operators is available on the MMS website at: http://www.gomr.mms.gov/homepg/mmsforms/frmindx.html.

• NTL 98-15, Time Allowed Between Lease Holding Operations (30 CFR 250.13 [Redesignated 30 CFR 250.113]). This NTL is superseded by the final rule revising the 30 CFR 250, Subpart A regulations, at 250.180.

• LTL dated August 28, 1992, subject: NAD 27 & NAD 83.

Dated: January 8, 2001.
Carolita U. Kallaur,
Associate Director for Offshore Minerals Management.

[FR Doc. 01-2308 Filed 1-25-01; 8:45 am]

BILLING CODE 4310-MR-W